DEPARTMENT OF THE INTERIOR

Bureau of Land Management

[LLNML00000 L12200000.DF0000]

Notice of Public Meeting, Las Cruces District Resource Advisory Council Meeting, New Mexico

AGENCY: Bureau of Land Management, Interior.

ACTION: Notice of Public Meeting.

SUMMARY: In accordance with the Federal Land Policy and Management Act and the Federal Advisory Committee Act of 1972, the U.S. Department of the Interior, Bureau of Land Management (BLM), Las Cruces District Resource Advisory Council (RAC), will meet as indicated below.

DATES: The meeting date is January 25, 2012, at the BLM Las Cruces District Office, 1800 Marquess Street, Las Cruces, NM 88005, from 10 a.m.-4 p.m.

The public may send written comments to the RAC at the above address.

FOR FURTHER INFORMATION CONTACT: Rena Gutierrez, BLM Las Cruces District, 1800 Marquess Street, Las Cruces, NM 88005, (575) 525-4338. Persons who use a telecommunications device for the deaf (TDD) may call the Federal Information Relay Service (FIRS) at 1-(800) 877-8229 to contact the above individual during normal business hours. The FIRS is available 24 hours a day, 7 days a week, to leave a message or question with the above individual. You will receive a reply during normal business hours.

SUPPLEMENTARY INFORMATION: The 10-member RAC advises the Secretary of the Interior, through the BLM, on a variety of planning and management issues associated with public land management in New Mexico.

Planned agenda items include opening remarks from the District Manager, recreation fees, renewable energy projects, access issues, and future project work for the RAC. A half-hour public comment period during which the public may address the Council will begin at 2:30 p.m. on January 25, 2012. All RAC meetings are open to the public. Depending on the number of individuals wishing to comment and time available, the time for individual oral comments may be limited.

Bill Childress,
District Manager, Las Cruces.

[FR Doc. 2012-370 Filed 1-10-12; 8:45 am]

BILLING CODE 4310-VC-P